DEPARTMENT OF AGRICULTURE

Forest Service

Eldorado National Forest, CA; Kirkwood Meadows Power Line Reliability Project EIS/EIR

AGENCY: Forest Service, USDA.

ACTION: Notice of intent to prepare a joint environmental impact statement/report.

SUMMARY: Notice is hereby given that the USDA Forest Service, Eldorado National Forest (Forest Service), together with the Kirkwood Meadows Public Utility District (KMPUD), will prepare a joint Environmental Impact Statement/Environmental Impact Report (EIS/EIR) to disclose the impacts associated with authorizing a 50-year term Special Use Permit for the construction, use and maintenance of a Kirkwood Meadows Public Utility District power line connecting the electrical grid near Salt Springs with the community of Kirkwood Meadows, located in Amador, Alpine and El Dorado Counties, California.

The new power line would potentially be located along Highway 88 and within the Eldorado National Forest. The power line would connect with an existing 115 kV transmission line near the PG&E hydroelectric facility at Salt Springs Reservoir. The proposed project also includes two substations to be built, one near the Salt Springs hydroelectric facility and the other on KMPUD property within the Kirkwood Meadows valley, as well as ancillary improvements on National Forest System lands needed to maintain this system (e.g., poles, roads, communication equipment).

DATES: The comment period on the proposed action will extend 45 days from the date this Notice of Intent is published in the Federal Register. Completion of the draft EIS/EIR is expected in March 2010 and the final EIS/EIR is expected in October 2010.

ADDRESSES: Send written comments to 100 Forth Road, Placerville, CA 95667. Comments may also be sent via e-mail to comments-pacificsouthwest-eldorado@fs.fed.us, or via facsimile to (530) 621-5297.

FOR FURTHER INFORMATION CONTACT: Copies of the proposed action and other information concerning this proposed action may be found on the project Web site at http://www.fs.fed.us/r5/eldorado/projects/. Copies of the proposed action or requests for further information may be addressed to Sue Rodman, 100 Forth Road, Placerville CA 95667. Project information can also be requested by leaving a voice message at (530) 621-5298.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the proposed project is to replace the use of diesel-fired generators within Kirkwood Meadows as the primary supply of power for current and future needs within the KMPUD service area. Additionally, the proposed project would increase the reliability of the power supply for the KMPUD service area; remove a source of particulates, noise and emissions from the Kirkwood Meadows valley, provide access to cost effective renewable sources of power for the Kirkwood Meadows valley, and help stabilize rates within the KMPUD service area. The following needs for this proposed action have been identified as follows:

Due to its remote location, high altitude, and challenging load pattern (peak loads may occur during periods of heavy snowfall), providing electrical power using diesel fired generation is challenging. The quality and reliability of the power supply is low as compared to typical grid-supplied electricity elsewhere in California due to a combination of factors. An interconnection between the KMPIJD service area and the California electrical grid would provide a more robust and reliable source of supply. The proposed project would also be able to accommodate buildout currently approved for Kirkwood Meadows as described in the Kirkwood Meadows Specific Plan and the on mountain improvements described in the Kirkwood Mountain Resort Mountain Master Development Plan.

The existing diesel generation system within Kirkwood Meadows is subject to the air quality permitting authority of the Great Basin Unified Air Pollution Control District (GBUAPCD), and meets the criteria set forth in the permits issued by the GBUAPCD. Nonetheless, the proposed project would reduce the emissions of diesel particulates in Kirkwood Meadows valley, as the existing diesel generation system would retire from primary generation to backup generation only as a result of the proposed project.

Since the existing generation system is relatively small and relies on diesel fuel, the price of electrical power within the KMPUID service area is heavily dependent on the price of diesel. The recent fluctuations in the price of diesel caused power prices within the KMPUD service area to spike dramatically. The proposed project would allow KMPUD to access the California electrical grid, and enter into long term, stable contracts for power supply.

The 2001 National Energy Policy goals are to increase domestic energy supplies, modernize and improve our nation's energy infrastructure, and improve the reliability of the delivery of energy from its sources to points of use. Executive Order 13212 encourages increased production and transmission of energy in a safe and environmentally sound manner. According to Executive Order 13212, for energy related projects, agencies shall expedite their review of permits or take other actions as necessary to accelerate the completion of such projects. The agencies shall take such actions to the extent permitted by law and regulations, and where appropriate.

Proposed Action

The proposed project would involve authorizing a 50-year term Special Use Permit for the construction, use and maintenance of a Kirkwood Meadows Public Utility District power line connecting Kirkwood Meadows (in Alpine, Amador and El Dorado Counties) to an existing 115 kV transmission line owned by Pacific Gas & Electric Company (PG&E) near the PG&E hydroelectric facility at Salt Springs Reservoir, in Amador County. The proposed project also includes two substations to be built, one within the KMPUD service area and the other near the PG&E Salt Springs hydroelectric facility, as well as ancillary improvements on National Forest System lands needed to maintain this system (e.g., poles, roads, communication equipment).

The proposed project would involve lands managed by the Eldorado National Forest in portions of Sections within Township 8 North, Range 15 East; Township 8 North, Range 16 East; Township 9 North, Range 16 East; Township 9 North, Range 17 East; and Township 10 North, Range 17 East, Mt. Diablo Base and Meridian.

The proposed project alignment is referred to as the Carson Spur Alignment. The proposed project alignment commences near PG&E's Salt Springs powerhouse, crosses the ridge to Bear River Reservoir, travels up to the State Highway 88 and Old Alpine Highway route and generally follows those alignments to Kirkwood Meadows. The proposed project will be constructed in the various alignment segments described below, utilizing underground or above ground installation methods, as required.

Segments PGE 1: Salt Springs substation along Salt Springs penstock—1.2 miles utilizing an overbuild of the existing PG&E 12 kV pole line.

Segment PGE 2: Cole Creek to Bear River Reservoir via PG&E 12 kV distribution line—1.9 Miles utilizing an overbuild of the existing PG&E 12 kV pole line.

Segment BRR 1: Bear River Reservoir to Hwy 88—3.6 miles (from the south side of Bear River Reservoir, across the Bear River Reservoir dam to Highway 88).

Segment OAH 1: 13.1 miles generally parallel to Hwy 88 on the Old Alpine Highway alignment where possible.

Segment OAH 2: 2.1 miles generally parallel to Highway 88 from Tragedy Springs past Silver Lake.

Segment CS 1: Oyster Springs to top of Carson Spur, generally parallel to Hwy 88 on Old Alpine Hwy—2.8 miles.

Segment CS 2: Carson Spur in Hwy 88—0.9 Miles.

Segment CS 3: Departs Hwy 88 East of the Carson Spur to KMPUD facilities 0.9 miles.

A map of the proposed project alignment is available at http://www.fs.fed.us/r5/eldorado/projects/, will be available for view at the Scoping Meetings listed below (see Scoping Process), or may be requested from the Forest Service at the addresses listed above (see For Further Contact Information).

Background

The Kirkwood Meadows power system currently uses a set of diesel generators with a maximum permitted capacity of 5.34 MW and a peak load of approximately 4 MW to power the ski resort, residences, and other businesses of Kirkwood Meadows. Since the approval of the first Kirkwood Master Plan in 1974, the ski resort has grown and now has power demands approaching the capacity of the existing diesel power plant. The Kirkwood Specific Plan completed in 2003 and the Mountain Master Plan completed in 2007 approved continued expansion of the resort and related recreational opportunities which will in turn require more electrical capacity.

Electrical energy can be unreliable in the Kirkwood Meadows service area, due to a combination of challenges related to generation and delivery of energy at high altitude and difficult winter conditions. Weather and equipment-related outages and low power quality occur in the Kirkwood Meadows area despite high rates and continuous investment in the system. One method of achieving a more reliable, higher capacity electricity source is to connect the Kirkwood community to the public electrical grid.

Several discussions regarding line extensions and interconnection have occurred with both PG&E (in California) and Sierra Pacific Power (SPP, in Nevada and California) since 1996 and a resolution was not reached. Energy demand is expected to exceed capacity within the next few years, therefore, KMIPTJD has taken on responsibility for pursuing a connection to the grid. The new power line is expected to meet the following needs: increase the reliability of the power supply for the KMPUD service area, reduce particulates, noise and emissions from the diesel generation in Kirkwood Meadows valley, provide access to cost effective renewable sources of energy from the California electrical grid, and stabilize rates within the KMPUD service area.

The Forest Service is the lead Federal agency for the preparation of a joint EIS/EIR in compliance with the National Environmental Policy Act (NEPA) and all other applicable laws, executive orders, regulations, and direction. KMPUD is the lead State of California agency for the preparation of a joint EIS/EIR in compliance with the California Environmental Quality Act (CEQA), California Public Resource Code Division 13, and all other applicable laws and regulations. Both agencies have determined a joint EIS/EIR is needed to efficiently analyze the proposed action and evaluate its impacts. Pursuant to CEQA, a Notice of Preparation of Joint EIS/EIR has also been prepared.

Possible Alternatives

The Forest Service will identify alternatives to the proposed action that address significant issues brought forward by the public during the scoping process. Possible alternatives could include: alternate alignments for the proposed power line, as well as construction alternatives to locate all or portions of the proposed power line underground, or an alternative for the types and number of poles and voltage that would be used.

In addition, KMPUD has identified two preliminary alternatives for analysis: the Silver Lake alignment and the Long Valley alignment.

The Silver Lake Alignment follows much of the Carson Spur Alignment until it reaches the north end of Silver Lake. The Silver Lake Alignment would depart from the proposed action alignment from Hwy 88 just north of Silver Lake, travel northeast of the lake to the top of Chair 6 at Kirkwood Meadows, and follow the Chair 6 alignment into Kirkwood Meadows Valley. The Silver Lake Alignment includes Segments PGE 1, PGE 2, BRR 1, OAR 1, OAH 2, NR 1, NR 2, NR 3.

Segments PGE 1, PGE 2, OAH 1, OAR 2—These segments are described in the Carson Spur Alignment above.

Segment NR 1 & NR 2: Around northeast end of Silver Lake, and from Silver Lake to top of Chair 6—2.9 miles.

Segment NR 3: Top of Chair 6 down a ski slope to KMPT.JD system—1.3 miles.

The Long Valley Alignment would be an overhead alignment along Long Valley, at 115 kV. The Long Valley Alignment commences near PG&E's Salt Springs powerhouse, follows the PG&E penstock north, then swings northeast and generally parallels Cole Creek Road. The alignment then heads generally northeast through Long Valley to just south of Kirkwood Meadows, then swings north to Kirkwood Meadows valley. The Long Valley Alignment would be considered a corridor; and a precise alignment location would be surveyed in the future. The Long Valley Alignment includes Segments PGE 1 and LV 1, LV 2, LV 3.

Segment PGE 1: Salt Springs substation along Salt Springs penstock—1.2 miles. Segment LV 1, LV 2, LV 3: LV 1 is top of Salt Springs penstock to Squaw Ridge, LV 2 is Squaw Ridge to Allen Ranch, and LV 3 is Allen Ranch to Kirkwood.

In addition to the alignment alternatives, various construction technologies will be evaluated for applicability on all alignments. Construction technologies include:

○ Underground Construction: Underground construction would utilize direct burial or a conduit and vault system. Underground construction would require a nominal trench excavation of 18″ W x 66″ D, constructed within a cleared construction corridor of 30 to 40 feet in width. For direct burial, the power cables must be bedded in select backfill material 6 inches below and 12 inches above the cable. Trench sections of up to 3000 feet in length will be opened for installation of the cable. Power line sections crossing under roads, narrow waterways and other special crossings will be installed using directional boring techniques in rigid conduit on an as needed basis. An above ground switching cabinet will be required approximately every mile along the underground power line route. The cabinet and supporting concrete pad will be approximately 8 feet square and about 4 feet high. For a conduit and vault system, the trench requirements will be the same as the direct burial sections except that the trench can be backfilled immediately after installing the conduit and the cable installed at a later date. The cable is then pulled in the conduit from one vault to the next. Depending on the terrain profile and lateral changes in direction, pull and splice vaults are generally spaced about 500-800 feet apart.

○ Overhead Lines: Overhead lines would be constructed in cleared corridors of 40 to 80 feet, depending on line voltage, terrain, snow depth and configuration of the pole structures. Weathering brown metal poles and low reflectivity conductors will be utilized wherever possible to better fit in with the surrounding forest.

Construction and maintenance may utilize helicopter techniques.

Lead and Cooperating Agencies

The Forest Service and the KMPUD will be joint lead agencies in accordance with 40 CFR 1501.5(b), and are responsible for the preparation of the EIS/EIR. The Forest Service will serve as the lead agency under NEPA. The KMPUD will serve as the lead agency under CEQA. Scoping will determine if additional cooperating agencies are needed.

Responsible Official

The Forest Service responsible official for the preparation of the EIS/EIR is the Forest Supervisor of the Eldorado National Forest, Ramiro Villalvazo.

Nature of Decision To Be Made

The Forest Supervisor of the Eldorado National Forest will decide whether or not to authorize a 50-year term Special Use Permit for the construction, use and maintenance of a Kirkwood Meadows Public Utility District power line along the proposed alignment, to make such authorization based upon an alternative alignment, or decide to take no action, based upon the findings of the Final EIS/EIR. The Forest Supervisor of the Eldorado National Forest will only make a decision regarding impacts on National Forest System lands. Once the decision is made, a record of decision/notice of decision to disclose the rationale for the decision will be published.

Permits or Licenses Required

Depending on the final alignment and configuration of the project, other necessary permits for the project may include, but are not limited to, an encroachment permit from Caltrans in order to construct the line within the right-of-way of State Highway 88 and Overload Permits; encroachment permits from Amador, Alpine and El Dorado Counties required to cross county rights-of-way; other local agency permits as may be required; air pollution permits from Amador County Air Pollution Control District (ACAPCD), El Dorado Air Quality Management District (EDAQMD), and Great Basin Unified Air Pollution Control District (GBUAPCD); National Pollution Discharge Elimination System (NPDES), General Construction permit issued by California's Regional Water Quality Control Board; Section 404 permit from the U.S. Army Corps of Engineers in the event of construction within jurisdictional waters (e.g., navigable waters or wetlands); Section 1601 Streambed Alteration permit from the California Department of Fish and Game for construction within the bed or banks of any streams or creeks; California Department of Toxic Substance Control, EPA Hazardous Waste Generator Identification; State Historical Perservation Officer (SHPO) Section 106 Compliance.

Scoping Process

This notice of intent initiates the scoping process, which guides the development of the EIS/EIR. The Forest Service is seeking public and agency comment on the proposed project to identify major issues to be analyzed in depth and assistance in identifying potential alternatives to be evaluated. It is important that interested parties provide their comments at such times and in such manner that they are useful to the lead agencies' preparation of the EIS/EIR. Therefore, comments should be provided prior to the close of the scoping period and should clearly articulate the interested party's concerns and contentions to the Addresses stated above. Interested parties are also given the opportunity to provide comments at the Scoping Meetings on the dates/ times/locations scheduled below. This input will be used in preparation of the draft EIS/EIR.

Information about the environmental review process will be posted on the Internet at: http://www.fs.fed.us/r5/eldorado/projects/. This site will be used to post all public documents during the environmental review process and to announce upcoming public meetings.

The Forest Service and KMPUD will hold two scoping meetings to provide information about the proposed action to the public, and to allow people to comment on the proposed action and possible alternatives. The scoping meetings will be held on the following dates, locations and times:

1. April 7, 2009, 6 p.m. to 8 p.m., Jackson Civic Center, 33 Broadway, Jackson, CA 95642.

2. April 8, 2009, 10 a.m. to 12 p.m., KMPUD office, 33540 Loop Road, Kirkwood, CA 95646.

The scoping period on the proposed action and possible alternatives will extend from 45 days from the date that this NOT is published in the Federal Register.

Early Notice of Importance of Public Participation in Subsequent Environmental Review

The draft EIS/EIR is expected to be filed with the Environmental Protection Agency (EPA) and to be available for public review in March 2010. The EPA will publish a notice of availability of the draft EIS/EIR in the Federal Register. The comment period on the draft EIS/EIR will extend 45 days from the date the EPA notice appears in the Federal Register. At that time, copies of the draft EIS/EIR will be distributed to interested and affected agencies, organizations, and members of the public for their review and comment. It is very important that those interested participate at that time. The final EIS/EIR is expected to be completed by October 2010. In the final EIS/EIR, the Forest Service and KMPUD are required to respond to comments received during the comment period that pertain to the environmental consequences discussed in the draft EIS/EIR and applicable laws, regulations, and policies considered in making the decision.

It is important that reviewers provide their comments at such times and in such a way that they are useful to the Agency's preparation of the ETS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action. Comments submitted anonymously will be accepted and considered; however, anonymous comments will not provide the respondent with standing to participate in subsequent administrative review or judicial review.

Dated: February 20, 2009.
Ramiro Villalvazo,
Forest Supervisor.

[FR Doc. E9-4119 Filed 2-26-09; 8:45 am]

BILLING CODE 3410-11-M